DEPARTMENT OF HEALTH AND HUMAN SERVICES

Centers for Medicare & Medicaid Services

[CMS-5506-N3]

Medicare Program; Comprehensive ESRD Care Initiative; Extension of the Submission Deadlines for the Letters of Intent and Applications

AGENCY: Centers for Medicare & Medicaid Services (CMS), HHS.

ACTION: Notice of extension of deadlines.

SUMMARY: This notice reopens the Comprehensive ESRD Care Initiative Letters of Intent submission period and extends the deadlines for the submission of the Comprehensive ESRD Care Initiative Letters of Intent and Applications to August 30, 2013. All potential applicants must submit a Letter of Intent to be eligible to submit an application.

DATES: Letter of Intent Submission Deadline: Interested organizations must submit a non-binding letter of intent on or before August 30, 2013, by an online form at: https://cmsgov.secure.force.com/cec.

Application Submission Deadline: Interested organizations must submit an application on or before August 30, 2013, as described on the Innovation Center Web site at: http://innovation.cms.gov/initiatives/comprehensive-ESRD-care/apply.html. Updates on this initiative will also be posted to the Web site.

FOR FURTHER INFORMATION CONTACT: Melissa Cohen, (410) 786-1829 or ESRD-CMMI@cms.hhs.gov.

SUPPLEMENTARY INFORMATION:

I. Background

The Center for Medicare and Medicaid Innovation (Innovation Center) is interested in identifying models designed to improve care for beneficiaries with end-stage renal disease (ESRD). To promote seamless and integrated care for beneficiaries with ESRD, we are developing a comprehensive care delivery model to emphasize coordination of a full-range of clinical and non-clinical services across providers, suppliers, and settings. Through the Comprehensive ESRD Care Model, we seek to identify ways to improve the coordination and quality of care for this population, while lowering total per-capita expenditures under the Medicare program. We anticipate that the Comprehensive ESRD Care Model would result in improved health outcomes for beneficiaries with ESRD regarding the functional status, quality of life, and overall well-being, as well as increased beneficiary and caregiver engagement, and lower costs to Medicare through improved care coordination.

On February 6, 2013, we published a notice in the Federal Register announcing a request for applications from organizations to participate in the testing of the Comprehensive ESRD Care Model, for a period beginning in 2013 and ending in 2016, with a possible extension into subsequent years.

In that notice, we stated that organizations interested in applying to participate in the testing of the Comprehensive ESRD Care Model must submit a non-binding letter of intent by March 15, 2013, and an application by May 1, 2013.

On July 17, 2013, we published a notice in the Federal Register announcing an extension of deadlines. The new deadlines were July 19, 2013 for the Letter of Intent and August 1, 2013 for the application.

II. Provisions of the Notice

Since the publication of the July 17, 2013 notice, several stakeholders have requested additional time to prepare their applications and form partnerships. Therefore, for the Comprehensive ESRD Care Initiative, the Innovation Center is reopening the Letters of Intent submission period and extending the deadlines for submission of both the Letters of Intent and the Applications to August 30, 2013.

In the DATES section of this notice, we are including the new submissions deadlines. For additional information on the Comprehensive ESRD Care Model and how to apply, we refer readers to click on the Request for Applications located on the Innovation Center Web site at: http://innovation.cms.gov/initiatives/comprehensive-ESRD-care.

(No. 93.773 Medicare—Hospital Insurance Program; and No. 93.774, Medicare-Supplementary Medical Insurance Program)

Dated: August 5, 2013.
Marilyn Tavenner,
Administrator, Centers for Medicare & Medicaid Services.

[FR Doc. 2013-19351 Filed 8-8-13; 8:45 am]

BILLING CODE 4120-01-P